DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2010 National Survey on Drug Use and Health—(OMB No. 0930-0110)—Revision

The National Survey on Drug Use and Health (NSDUH), formerly the National Household Survey on Drug Abuse (NHSDA) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

The 2010 NSDUH will continue conducting a follow-up clinical interview with a subsample of approximately 500 respondents. The design of this study is based on the recommendations from a panel of expert consultants convened by the Center for Mental Health Services (CMHS), SAMHSA, to discuss mental health surveillance data collection strategies. The goal is to create a statistically sound measure that may be used to estimate the prevalence of Serious Mental Illness (SMI) among adults (age 18+).

For the 2010 NSDUH, no questionnaire changes are proposed.

As with all NSDUH/NHSDA surveys conducted since 1999, the sample size of the survey for 2010 will be sufficient to permit prevalence estimates for each of the fifty states and the District of Columbia. The total annual burden estimate is shown below:

Instrument | Number of respondents | Responses per respondent | Hours per response | Total burden hours | Hourly wage rate | Annualized hourly costs
Household Screening | 190,800 | 1 | 0.083 | 15,836 | $14.64 | $231,839
Interview | 67,500 | 1 | 1.000 | 67,500 | 14.64 | 988,200
Clinical Follow-up Certification | 24 | 1 | 1.000 | 24 | 14.64 | 351
Clinical Follow-up Interview | 500 | 1 | 1.000 | 500 | 14.64 | 7,320
Screening Verification | 5,400 | 1 | 0.067 | 362 | 14.64 | 5,300
Interview Verification | 10,125 | 1 | 0.067 | 678 | 14.64 | 9,926
Total | 190,824 |  |  | 84,900 |  | 1,242,936

Instrument | Number of respondents | Responses per respondent | Hours per response | Total burden hours | Hourly wage rate | Annualized hourly costs
Household Screening | 190,800 | 1 | 0.083 | 15,836 | $14.64 | $231,839
Interview | 67,500 | 1 | 1.000 | 67,500 | 14.64 | 988,200
Clinical Follow-up Certification | 24 | 1 | 1.000 | 24 | 14.64 | 351
Clinical Follow-up Interview | 500 | 1 | 1.000 | 500 | 14.64 | 7,320
Screening Verification | 5,400 | 1 | 0.067 | 362 | 14.64 | 5,300
Interview Verification | 10,125 | 1 | 0.067 | 678 | 14.64 | 9,926
Total | 190,824 |  |  | 84,900 |  | 1,242,936

Written comments and recommendations concerning the proposed information collection should be sent by July 9, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 1, 2009.
Elaine Parry,
Director, Office of Program Services.

[FR Doc. E9-13414 Filed 6-8-09; 8:45 am]

BILLING CODE 4162-20-P